DEPARTMENT OF AGRICULTURE

Commodity Credit Corporation

Information Collection: Bioenergy Program

AGENCY: Commodity Credit Corporation, USDA.

ACTION: Notice; request for comments.

SUMMARY: In accordance with the Paperwork Reduction Act of 1995, the Commodity Credit Corporation (CCC) is seeking comments from all interested individuals and organizations on the extension of an approved information collection with revision associated with the forms used under the Bioenergy Program. This information collection is needed to administer the Bioenergy Program.

DATES: Comments on this notice must be received on or before February 13, 2006 to be assured consideration.

ADDRESSES: Comments should be addressed to Farm Service Agency, USDA, Commodity Operations, Attn: James Goff, Special Programs Manager, STOP-0553, 1400 Independence Avenue, SW., Washington, DC 20250-0553. Comments also may be submitted by e-mail to: James.Goff@wdc.usda.gov. The comments should be also sent to the Desk Officer for Agriculture, Office of Information and Regulatory Affairs, Office of Management and Budget, Washington, DC 20503. Comments should include the OMB number and title of the information collection.

FOR FURTHER INFORMATION CONTACT: James Goff, Special Programs Manager, (202) 720-5396 and James.Goff@wdc.usda.gov.

SUPPLEMENTARY INFORMATION:

Description of Information Collection

Title: Report of Acreage for the Bioenergy Program.

OMB Number: 0560-0207.

Expiration Date: May 31, 2006.

Type of Request: Extension with revision.

Abstract: USDA collects information from bioenergy producers that request payments under the Bioenergy Program as the Secretary may require to ensure the benefits are paid only to eligible bioenergy producers for eligible commodities. Bioenergy producers seeking program payments have to meet minimum requirements by providing information concerning the production of bioenergy. Applicants must certify that they will abide by the Bioenergy Program Agreement's provisions.

Respondents: U.S. bioenergy producers who use eligible agricultural commodities to make bioenergy and have been accepted to participate in the Bioenergy Program.

Estimated Annual Number of Respondents: 300.

Estimated Annual Number of Forms per person: 11.

Estimated Average Time to Respond: 1 hour.

Estimated Total Annual Burden Hours: 3,300.

Comments are invited regarding (1) Whether the collection of information is necessary for the proper performance of the functions of the agency, including whether the information will have practical utility; (2) the accuracy of the agency's estimate of burden, including the validity of the methodology and assumption used: (3) ways to enhance the quality, utility and clarity of the information to be collected; and (4) ways to minimize the burden of the collection of information on those who are to respond, including through the use of appropriate automated, electronic, mechanical, or other technological collection techniques or other forms of information technology.

All comments received in response to this notice, including names and addresses when provided, will be a matter of public record. Comments will be summarized and included in the submission for OMB approval.

Signed in Washington, DC on December 7, 2005.
Teresa C. Lasseter,
Executive Vice-President, Commodity Credit Corporation.

[FR Doc. E5-7279 Filed 12-13-05; 8:45 am]

BILLING CODE 3410-05-P